DEPARTMENT OF DEFENSE

Office of the Secretary

[Docket ID: DOD-2015-OS-0058]

Proposed Collection; Comment Request

AGENCY: Office of Economic Adjustment, Office of the Under Secretary of Defense for Acquisition, Technology, and Logistics, DoD.

ACTION: Notice.

SUMMARY: In compliance with the Paperwork Reduction Act of 1995, the Office of Economic Adjustment announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 18, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of Economic Adjustment, Compliance and Integration, ATTN: Nia Hope, 2231 Crystal Drive, Suite 520, Arlington, VA 22202 at 703-697-2088.

SUPPLEMENTARY INFORMATION: Title; Associated Form; and OMB Number: Application Information Public Schools on Military Installations; SF 424; OMB Control Number 0790-0006.

Needs and Uses: The information collection requirement is necessary to determine applicant and project compliance with legal and programmatic requirements of the program and will help the Federal Evaluation Team, in cooperation with the eligible invited Local Education Authorities, to establish an agreed upon project scope and budget to be considered for funding.

Affected Public: State, Local, or Tribal Government.

Annual Burden Hours: 264.

Number of Respondents: 12.

Responses per Respondent: 1.

Annual Responses: 12.

Average Burden per Response: 22 hours.

Frequency: Annually.

Dated: September 13, 2016.
Aaron Siegel,
Alternate OSD Federal Register Liaison Officer, Department of Defense.

[FR Doc. 2016-22428 Filed 9-16-16; 8:45 am]

BILLING CODE 5001-06-P